ENVIRONMENTAL PROTECTION AGENCY

40 CFR Part 52

[EPA-R06-OAR-2006-0131; FRL-9936-45-Region 6]

Approval and Promulgation of Implementation Plans; Louisiana; Major Source Permitting State Implementation Plan

AGENCY: Environmental Protection Agency (EPA).

ACTION: Final rule.

SUMMARY: The Environmental Protection Agency (EPA) is approving portions of revisions to the Louisiana New Source Review (NSR) State Implementation Plan (SIP) submitted by the Louisiana Department of Environmental Quality. These revisions are updates to the Prevention of Significant Deterioration (PSD) and Nonattainment NSR (NNSR) permit programs.

DATES: This rule is effective on December 7, 2015.

ADDRESSES: The Environmental Protection Agency (EPA) has established a docket for this action under Docket ID No. EPA-R06-OAR-2006-0131. All documents in the docket are listed on the http://www.regulations.gov Web site. Although listed in the index, some information is not publicly available, e.g., Confidential Business Information or other information whose disclosure is restricted by statute. Certain other material, such as copyrighted material, is not placed on the Internet and will be publicly available only in hard copy form. Publicly available docket materials are available either electronically through http://www.regulations.gov or in hard copy at the EPA Region 6, 1445 Ross Avenue, Suite 700, Dallas, Texas 75202-2733.

FOR FURTHER INFORMATION CONTACT: Stephanie Kordzi, 214-665-7520, skordzi@gmail.com.

SUPPLEMENTARY INFORMATION: Throughout this document wherever “we,” “us,” or “our” is used, we mean the EPA.

I. Background

The background for this action is discussed in detail in our August 19, 2015, proposal (80 FR 50240). In that document, we proposed to approve portions of SIP submittals for the State of Louisiana. These amendments provide clarity to the SIP-approved rules and correct contradictory language. Specific proposed revisions address the assessment and validation of a facility's emissions inventory values. Further, the amendments revise the SIP rules to conform to the latest changes to Louisiana laws including making changes to the Louisiana NNSR and PSD permitting programs reflecting the requirements found in the federal NSR Reform Program SIP rules. The changes also define, for NNSR purposes, the parishes that have been designated as non-attainment for ozone. Finally, this action addresses eight rule changes for baseline actual emissions and projected actual emissions definitions. This action is being taken under section 110 of the Act. We did not receive any comments regarding our proposal.

II. Final Action

We are approving portions of SIP submittals for the State of Louisiana submitted on July 25, 1997, June 22, 1998, February 2, 2000, January 27, 2003, June 15, 2005, December 20, 2005, May 5, 2006, July 20, 2007, November 9, 2007, August 14, 2009, May 16, 2011, and February 27, 2013, to address air permit procedure revisions, ERC banking revisions, Baton Rouge Severe Area rule update revisions, NSR reform revisions, rescission of the alternative emission reduction plan for Union Carbide Corporation Taft Plant, revisions for Particulate Matter 2.5 (PM2.5) National Ambient Air Quality Standards (NAAQS), and an update of PM2.5 increments. We approve the portions of the SIP submittals that meet CAA requirements. Specifically, we are approving the following revisions to the Louisiana SIP:

• Revisions to LAC 33:III.501 as submitted on July 25, 1997;

• Revisions to LAC 33:III.504 as submitted on June 15, 2005; December 20, 2005; May 5, 2006; November 9, 2007; August 14, 2009; and May 16, 2011;

• Revisions to LAC 33:III.509 as submitted on July 25, 1997; June 22, 1998; January 27, 2003; February 2, 2000; December 20, 2005; May 5, 2006; November 9, 2007; May 16, 2011; and February 27, 2013;

• Revisions to LAC 33:III.603 as submitted on February 2, 2000; and August 14, 2009;

• Revisions to LAC 33:III.605 as submitted on August 14, 2009;

• Revisions to LAC 33:III.607 as submitted on November 9, 2007 and August 14, 2009;

• Revisions to LAC 33:III.613 as submitted on January 27, 2003 and May 5, 2006;

• Revisions to LAC 33:III.615 as submitted on January 27, 2003 and August 14, 2009; and

• The removal of the Union Carbide Bubble Permit in Hahnville, Louisiana, as submitted on July 20, 2007, at 40 CFR 52.970(d) to reflect the rescission of the permit by LDEQ.

The EPA is finding that the May 16, 2011, revisions to the Louisiana NNSR program at LAC 33:III.504 address all required NNSR elements for the implementation of the 1997 and 2006 PM2.5 NAAQS. We note that the Louisiana NNSR program does not include regulation of volatile organic compounds and ammonia as PM2.5 precursors. However, as section 189(e) of the Act requires regulation of PM2.5 precursors that significantly contribute to PM2.5 levels “which exceed the standard in the area” and Louisiana does not have a designated PM2.5 nonattainment area; the revisions addressing only sulfur dioxide and nitrogen oxides are not inconsistent with the requirements of the CAA. In the event that an area is designated nonattainment for the 2012 PM2.5 NAAQS or any other future PM2.5 NAAQS, Louisiana will have a deadline under section 189(a)(2) of the CAA to make a submission addressing the statutory requirements as to that area, including the requirements in section 189(e) that apply to the regulation of PM2.5 precursors.

This action is being taken under section 110 of the Act.

III. Incorporation by Reference

In this rule, we are finalizing regulatory text that includes incorporation by reference. In accordance with the requirements of 1 CFR 51.5, we are finalizing the incorporation by reference of the revisions to the Louisiana regulations as described in the Final Action section above. We have made, and will continue to make, these documents generally available electronically through www.regulations.gov and/or in hard copy at the EPA Region 6 office.

IV. Statutory and Executive Order Reviews

Under the Clean Air Act, the Administrator is required to approve a SIP submission that complies with the provisions of the Act and applicable Federal regulations. 42 U.S.C. 7410(k); 40 CFR 52.02(a). Thus, in reviewing SIP submissions, the EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by January 4, 2016. Filing a petition for reconsideration by the Administrator of this final rule does not affect the finality of this action for the purposed of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, and Volatile organic compounds.

Dated: October 23, 2015.
Samuel Coleman,
Acting Regional Administrator, Region 6.

40 CFR part 52 is amended as follows:

PART 52—APPROVAL AND PROMULGATION OF IMPLEMENTATION PLANS

1. The authority citation for part 52 continues to read as follows:

Authority: 42 U.S.C. 7401 et seq.

Subpart T—Louisiana

2. In § 52.970:

a. In paragraph (c), the table titled “EPA-Approved Louisiana Regulations in the Louisiana SIP” is amended by revising the entries for Sections 501, 504, 509, 603, 605, 607, 613, and 615; and

b. Paragraph (d) is amended by removing the entry for “Union Carbide Facility in Hahnville, Louisiana”.

The revisions read as follows:

§ 52.970 Identification of plan.

* * * * *

(c) * * *

EPA Approved Louisiana Regulations in the Louisiana SIP
State citation | Title/subject | State approval date | EPA Approval date | Comments
LAC Title 33. Environmental Quality Part III. Air
* * * * * * *
Chapter 5—Permit Procedures
Section 501 | Scope and Applicability | 5/20/1996 | 11/5/2015 [Insert Federal Register citation]
* * * * * * *
Section 504 | Nonattainment New Source Review (NNSR) Procedures | 2/20/2011 | 11/5/2015 [Insert Federal Register citation] | The SIP does not include LAC 33:III.504.M.
* * * * * * *
Section 509 | Prevention of Significant Deterioration | 12/20/2012 | 11/5/2015 [Insert Federal Register citation] | SIP does not include provisions for permitting of GHGs as effective on 04/20/2011 at LAC 33:III.509(B) definition of “carbon dioxide equivalent emissions”, “greenhouse gases”, “major stationary source”, and “significant”. SIP does not include the PM2.5 SMC at LAC 33:III.509(I)(5)(a) from the 12/20/2012 adoption. LAC 33:III.509(I)(5)(a) is SIP-approved as of 10/20/2007 adoption.
Chapter 6—Regulations on Control of Emissions Reduction Credits Banking
* * * * * * *
Section 603 | Applicability | 10/20/2007 | 11/5/2015 [Insert Federal Register citation]
Section 605 | Definitions | 10/20/2007 | 11/5/2015 [Insert Federal Register citation]
Section 607 | Determination of Creditable Emission Reductions | 10/20/2007 | 11/5/2015 [Insert Federal Register citation]
Section 613 | ERC Balance Sheet | 10/20/2007 | 11/5/2015 [Insert Federal Register citation]
Section 615 | Schedule for Submitting Applications | 10/20/2007 | 11/5/2015 [Insert Federal Register citation]
* * * * * * *

* * * * *

[FR Doc. 2015-28097 Filed 11-4-15; 8:45 am]

BILLING CODE 6560-50-P